DEPARTMENT OF TRANSPORTATION

Federal Railroad Administration

[Docket Number FRA-2017-0083]

Petition for Approval of Informational Filing

Under part 211 of title 49, Code of Federal Regulations (CFR), this document amends prior public notice that on August 30, 2017, the Yadkin Valley Railroad (YVRR) petitioned the Federal Railroad Administration (FRA) for approval of an Informational Filing (IF) pursuant to 49 CFR 236.913(j).

The YVRR submitted an IF requesting FRA approval to conduct field testing of a Train Detection System supplied by Next Generation Rail Technologies S.L. (NGRT) at Bethania Road highway-rail crossing in Rural Hall, North Carolina. After installation of the system, the proposed period of data collection will be approximately four months. YVRR asserts that its IF addresses all requirements of 49 CFR 236.913(j)(1), and that the Train Detection System will be operating in shadow mode only to collect data, and will not interfere, impact, or communicate with the current signaling system.

FRA assigned the petition Docket Number FRA-2017-0083, and published notice of the petition in the Federal Register on September 18, 2017. 82 FR 43655.

This document provides additional information and corrections to the notice published September 18, 2017, regarding this docket. The September 18 notice included an inaccurate description of the filing, and omitted language providing an opportunity and instructions for public comment.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal Holidays.

Communications received by November 20, 2017 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.

Robert C. Lauby,
Associate Administrator for Railroad Safety, Chief Safety Officer.

[FR Doc. 2017-21512 Filed 10-5-17; 8:45 am]

BILLING CODE 4910-06-P